DEPARTMENT OF THE INTERIOR

Fish and Wildlife Service

[FWS-R4-ES-2024-N046; FXES11140400000-245-FF04E00000]

Endangered Species; Recovery Permit Applications

AGENCY: Fish and Wildlife Service, Interior.

ACTION: Notice of receipt of permit applications; request for comments.

SUMMARY: We, the U.S. Fish and Wildlife Service, have received applications for permits to conduct activities intended to enhance the propagation or survival of endangered species under the Endangered Species Act. We invite the public and local, State, Tribal, and Federal agencies to comment on these applications. Before issuing any of the requested permits, we will take into consideration any information that we receive during the public comment period.

DATES: We must receive written data or comments on the applications by October 15, 2024.

ADDRESSES:

Reviewing Documents: Submit requests for copies of applications and other information submitted with the applications to Karen Marlowe (see FOR FURTHER INFORMATION CONTACT). All requests and comments should specify the applicant's name and application number (e.g., Mary Smith, ESPER0001234).

Submitting Comments: If you wish to comment, you may submit comments by one of the following methods:

• Email (preferred method): permitsR4ES@fws.gov. Please include your name and return address in your email message. If you do not receive a confirmation from the U.S. Fish and Wildlife Service that we have received your email message, contact us directly at the telephone number listed in FOR FURTHER INFORMATION CONTACT.

• U.S. mail: U.S. Fish and Wildlife Service Regional Office, Ecological Services, 1875 Century Boulevard, Atlanta, GA 30345 (Attn: Karen Marlowe, Permit Coordinator).

FOR FURTHER INFORMATION CONTACT: Karen Marlowe, Permit Coordinator, via telephone at 404-679-7097 or via email at karen_marlowe@fws.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: We, the U.S. Fish and Wildlife Service, invite review and comment from the public and local, State, Tribal, and Federal agencies on applications we have received for permits to conduct certain activities with endangered and threatened species under section 10(a)(1)(A) of the Endangered Species Act of 1973, as amended (ESA; 16 U.S.C. 1531 et seq.), and our regulations in the Code of Federal Regulations (CFR) at 50 CFR part 17. Documents and other information submitted with the applications are available for review, subject to the requirements of the Privacy Act of 1974, as amended (5 U.S.C. 552a), and the Freedom of Information Act (5 U.S.C. 552).

Background

With some exceptions, the ESA prohibits take of listed species unless a federal permit is issued that authorizes such take. The definition of “take” in the ESA includes hunting, shooting, harming, wounding, or killing, and also such activities as pursuing, harassing, trapping, capturing, or collecting.

A recovery permit issued by us under section 10(a)(1)(A) of the ESA authorizes the permittee to take endangered or threatened species while engaging in activities that are conducted for scientific purposes that promote recovery of species or for enhancement of propagation or survival of species. These activities often include the capture and collection of species, which would result in prohibited take if a permit were not issued. Our regulations implementing section 10(a)(1)(A) of the ESA for these permits are found at 50 CFR 17.22 for endangered wildlife species, 50 CFR 17.32 for threatened wildlife species, 50 CFR 17.62 for endangered plant species, and 50 CFR 17.72 for threatened plant species.

Permit Applications Available for Review and Comment

The ESA requires that we invite public comment before issuing these permits. Accordingly, we invite local, State, Tribal, and Federal agencies, and the public to submit written data, views, or arguments with respect to these applications. The comments and recommendations that will be most useful and likely to influence agency decisions are those supported by quantitative information or studies. Proposed activities in the following permit requests are for the recovery and enhancement of propagation or survival of the species in the wild.

Permit application No. | Applicant | Species | Location | Activity | Type of take | Permit action
ES27608B-2 | McGehee Engineering Corporation; Jasper, AL | Tricolored bat (Perimyotis subflavus) | Alabama, Mississippi, and Tennessee | Presence/probable absence surveys | Enter hibernacula, capture, handle, identify, band, radio tag, and release | Renewal and amendment.
ES54578B-3 | Mary Frazer; Raleigh, NC | Tricolored bat (Perimyotis subflavus) | Alabama, Arkansas, Connecticut, Delaware, District of Columbia, Florida, Georgia, Illinois, Indiana, Iowa, Kansas, Kentucky, Louisiana, Maine, Maryland, Massachusetts, Michigan, Minnesota, Mississippi, Missouri, Montana, Nebraska, New Hampshire, New Jersey, New York. North Carolina, North Dakota, Ohio, Oklahoma, Pennsylvania, Rhode Island, South Carolina, South Dakota, Tennessee, Texas, Vermont, Virginia, West Virginia, Wisconsin, and Wyoming | Presence/probable absence surveys | Enter hibernacula, capture, handle, identify, band, radio tag, and release | Renewal and amendment.
ES119937-5 | Susan Loeb; Clemson, SC | Gray bat (Myotis grisescens), Indiana bat (Myotis sodalis), northern long-eared bat (Myotis septentrionalis), and tricolored bat (Perimyotis subflavus) | Alabama, Arkansas, Colorado, Connecticut, Delaware, District of Columbia, Florida, Georgia, Illinois, Indiana, Iowa, Kansas, Kentucky, Louisiana, Maine, Maryland, Massachusetts, Michigan, Minnesota, Mississippi, Missouri, Nebraska, New Hampshire, New Jersey, New Mexico, New York, North Carolina, Ohio, Oklahoma, Pennsylvania, Rhode Island, South Carolina, South Dakota, Tennessee, Texas, Vermont, Virginia, West Virginia, Wisconsin, and Wyoming | Presence/probable absence surveys and scientific research | Enter hibernacula or maternity roost caves, capture, handle, identify, band, radio tag, collect hair samples, light tag, wing punch, and release | Renewal and amendment.
ES64393C-2 | Vanasse Hangen Brustlin, Inc.; Raleigh, NC | Gray bat (Myotis grisescens), Indiana bat (Myotis sodalis), northern long-eared bat (Myotis septentrionalis), tricolored bat (Perimyotis subflavus), and Virginia big-eared bat (Corynorhinus townsendii virginianus) | Alabama, Arkansas, Connecticut, Delaware, District of Columbia, Florida, Georgia, Illinois, Indiana, Iowa, Kansas, Kentucky, Louisiana, Maine, Maryland, Massachusetts, Michigan, Minnesota, Mississippi, Missouri, Montana, Nebraska, New Hampshire, New Jersey, New York, North Carolina, North Dakota, Ohio, Oklahoma, Pennsylvania, Rhode Island, South Carolina, South Dakota, Tennessee, Vermont, Virginia, West Virginia, Wisconsin, and Wyoming | Presence/probable absence surveys | Enter hibernacula or maternity roosts, capture with mist nets or harp traps, handle, identify, band, radio tag, and release | Renewal and amendment.
PER0018443-1 | U.S. Army Engineer Research and Development Center; Vicksburg, MS | Balcones spike (Fusconaia iheringi), false spike (Fusconaia mitchelli), Guadalupe orb (Cyclonaias necki), Guadalupe fatmucket (Lampsilis bergmanni), Ouachita fanshell (Cyprogenia sp. cf. aberti), Texas fatmucket (Lampsilis bracteata), Texas fawnsfoot (Truncilla macrodon), Texas pimpleback (Cyclonaias petrina), and western fanshell (Cyprogenia aberti) | Alabama, Kansas, Louisiana, Missouri, Oklahoma, and Texas | Presence/probable absence surveys | Capture, handle, identify, and release | Amendment.
ES02200B-5 | Atlanta Botanical Garden; Atlanta, GA | Helonias bullata (swamp pink), Hudsonia montana (mountain golden heather), Isotria medeoloides (small whorled pogonia), Platanthera integrilabia (white fringeless orchid), Sarracenia oreophila (green pitcher plant), Spiraea virginiana (Virginia spiraea), Trillium persistens (persistent trillium), Trillium reliquum (relict trillium), and Xyris tennesseensis (Tennessee yellow-eyed grass) | Federal lands in Alabama, Georgia, North Carolina, and Tennessee | Long-term storage, artificial propagation, ex situ safeguarding, and genomic studies | Remove and reduce to possession (collect) seeds, leaves, root tips, pollen, and stem cuttings | Renewal.
PER11488797-0 | North Carolina State University; Raleigh, NC | Red wolf (Canis rufus) | Red Wolf SAFE facilities and North Carolina | Evaluation of cortisol values | Collect hair samples | New.
PER3315996-0 | Domonique DiLandro; Holly Springs, NC | Indiana bat (Myotis sodalis) | Alabama, Arkansas, Connecticut, Delaware, Georgia, Illinois, Indiana, Iowa, Kansas, Kentucky, Maryland, Michigan, Mississippi, Missouri, Nebraska, New Jersey, New York, North Carolina, Ohio, Oklahoma, Pennsylvania, South Carolina, Tennessee, Vermont, Virginia, West Virginia, and Wisconsin | Presence/probable absence surveys | Enter roosts (bridges, culverts, and abandoned buildings), capture, handle, identify, band, radio tag, and release | New.
ES88778B-3 | John Lamb; Decherd, TN | Gray bat (Myotis grisescens), Indiana bat (Myotis sodalis), and northern long-eared bat (Myotis septentrionalis) | Tennessee | Presence/probable absence surveys | Enter hibernacula or maternity roost caves, capture, handle, identify, band, radio tag, and release | Renewal and amendment.
ES81492B-2 | Biotope Forestry & Environmental, LLC; Nacogdoches, TX | Tricolored bat (Perimyotis subflavus) | Alabama, Arkansas, Connecticut, Delaware, District of Columbia, Florida, Georgia, Illinois, Indiana, Iowa, Kansas, Kentucky, Louisiana, Maine, Maryland, Massachusetts, Michigan, Minnesota, Mississippi, Missouri, Montana, Nebraska, New Hampshire, New Jersey, New York, North Carolina, North Dakota, Ohio, Oklahoma, Pennsylvania, Rhode Island, South Carolina, South Dakota, Tennessee, Vermont, Virginia, West Virginia, Wisconsin, and Wyoming | Presence/probable absence surveys | Capture, handle, identify, band, radio tag, and release | Amendment.
PER5292605-0 | Amanda Miller; Winchester, TN | Gray bat (Myotis grisescens), Indiana bat (Myotis sodalis), and northern long-eared bat (Myotis septentrionalis) | Arkansas, Colorado, Georgia, Florida, Kansas, Kentucky, Louisiana, Mississippi, Missouri, North Carolina, Oklahoma, Pennsylvania, South Carolina, Texas, and Virginia | Presence/probable absence surveys | Capture, handle, identify, band, radio tag, and release | New.
ES 75551C-1 | Phillip Arant; Fairmont,WV | Tricolored bat (Perimyotis subflavus) | Alabama, Arkansas, Connecticut, Delaware, District of Columbia, Florida, Georgia, Illinois, Indiana, Iowa, Kansas, Kentucky, Louisiana, Maine, Maryland, Massachusetts, Michigan, Minnesota, Mississippi, Missouri, Montana, Nebraska, New Hampshire, New Jersey, New York, North Carolina, North Dakota, Ohio, Oklahoma, Pennsylvania, Rhode Island, South Carolina, South Dakota, Tennessee, Vermont, Virginia, West Virginia, Wisconsin, and Wyoming | Presence/probable absence surveys | Capture, handle, identify, band, radio tag, and release | Renewal and amendment.
ES 88796C-3 | Geological Survey of Alabama; Tuscaloosa, AL | Fish: Blue shiner (Cyprinella caerulea), Cahaba shiner (Notropis cahabae), goldline darter (Percina aurolineata), rush darter (Etheostoma phytophilum), trispot darter (E. trisella), vermilion darter (E. chermocki), and watercress darter (E. nuchale); Mussels: Alabama moccasinshell (Medionidus acutissimus), Coosa moccasinshell (M. parvulus), dark pigtoe (Pleurobema furvum), finelined pocketbook (Hamiota altilis), Georgia pigtoe (Pleurobema hanleyianum), heavy pigtoe (P. taitianum), inflated heelsplitter (Potamilus inflatus), orangenacre mucket (Hamiota perovalis), ovate clubshell (Pleurobema perovatum), southern acornshell (Epioblasma othcaloogensis), southern clubshell (Pleurobema decisum), southern combshell (Epioblasma penita), southern pigtoe (Pleurobema georgianum), triangular kidneyshell (Ptychobranchus greenii), and upland combshell (Epioblasma metastriata) | Alabama | Presence/probable absence surveys and monitoring | Fish: capture, handle, identify and release; Mussels: capture, handle, identify, mark, release, and collect relic shells | Renewal and amendment.
ES 824723-12 | Archbold Expeditions, Inc; Venus, FL | Birds: Florida grasshopper sparrow (Ammodramus savannarum floridanus), Florida scrub jay (Aphelocoma coerulescens), and red-cockaded woodpecker (Picoides borealis); Reptile: Eastern indigo snake (Drymarchon couperi); Plants: Cladonia perforata (Florida perforate cladonia), Dicerandra christmanii (Garrett's mint), Polygala lewtonii (Lewton's milkwort), and Ziziphus celata (Florida ziziphus) | Florida | Population management and monitoring, genetic analyses, studies on habitat use, germination experiments, propagation, and reintroduction | Birds: Red-cockaded woodpeckers: capture, band, construct and monitor artificial nest cavities and restrictors, translocate, collect blood, and salvage non-viable eggs; Florida scrub jays: capture, band, collect blood and feathers, radio-tag, provide supplemental food, and administer Ivermectin; Florida grasshopper sparrows: capture, band, collect blood, salvage non-viable eggs, collect eggs and nestlings to be swapped with captive eggs and/or nestlings; Eastern indigo snake: capture, handle, take skin swabs, release, and salvage; Plants: collect seeds, leaves, stem cuttings, and portions of thallus | Renewal and amendment.
ES63633A-7 | Biodiversity Research Institute; Portland, ME | Tricolored bat (Perimyotis subflavus) | Alabama, Arkansas, Connecticut, Delaware, District of Columbia, Florida, Georgia, Illinois, Indiana, Iowa, Kansas, Kentucky, Louisiana, Maine, Maryland, Massachusetts, Michigan, Minnesota, Mississippi, Missouri, Montana, Nebraska, New Hampshire, New Jersey, New York, North Carolina, North Dakota, Ohio, Oklahoma, Pennsylvania, Rhode Island, South Carolina, South Dakota, Tennessee, Vermont, Virginia, West Virginia, Wisconsin, and Wyoming | Presence/probable absence surveys | Enter hibernacula, capture with mist nets or harp traps, handle, identify, band, radio tag, and release | Renewal and amendment.

Public Availability of Comments

Written comments we receive become part of the administrative record associated with this action. Before including your address, phone number, email address, or other personal identifying information in your comment, you should be aware that your entire comment—including your personal identifying information—may be made publicly available at any time. While you can ask us in your comment to withhold your personal identifying information from public review, we cannot guarantee that we will be able to do so. All submissions from organizations or businesses, and from individuals identifying themselves as representatives or officials of organizations or businesses, will be made available for public disclosure in their entirety.

Next Steps

If we decide to issue a permit to an applicant listed in this notice, we will publish a notice in the Federal Register.

Authority

We publish this notice under section 10(c) of the Endangered Species Act of 1973, as amended (16 U.S.C. 1531 et seq.).

Daniel Elbert,
Acting Deputy Assistant Regional Director, Ecological Services, Southeast Region.

[FR Doc. 2024-20786 Filed 9-12-24; 8:45 am]

BILLING CODE 4333-15-P